DEPARTMENT OF HOMELAND SECURITY

Coast Guard

[Docket No. USCG-2017-0952]

Collection of Information Under Review by Office of Management and Budget; OMB Control Number: 1625-0011

AGENCY: Coast Guard, DHS.

ACTION: Thirty-day notice requesting comments.

SUMMARY: In compliance with the Paperwork Reduction Act of 1995 the U.S. Coast Guard is forwarding an Information Collection Request (ICR), abstracted below, to the Office of Management and Budget (OMB), Office of Information and Regulatory Affairs (OIRA), requesting approval for reinstatement, without change, of the following collection of information: 1625-0011, Applications for Private Aids to Navigation and for Class I Private Aids to Navigation on Artificial Islands and Fixed Structures. Our ICR describes the information we seek to collect from the public. Review and comments by OIRA ensure we only impose paperwork burdens commensurate with our performance of duties.

DATES: Comments must reach the Coast Guard and OIRA on or before April 2, 2018.

ADDRESSES: You may submit comments identified by Coast Guard docket number [USCG-2017-0952] to the Coast Guard using the Federal eRulemaking Portal at http://www.regulations.gov. Alternatively, you may submit comments to OIRA using one of the following means:

(1) Email: dhsdeskofficer@omb.eop.gov.

(2) Mail: OIRA, 725 17th Street NW, Washington, DC 20503, attention Desk Officer for the Coast Guard.

A copy of the ICR is available through the docket on the internet at http://www.regulations.gov. Additionally, copies are available from: Commandant (CG-612), ATTN: Paperwork Reduction Act Manager, U.S. Coast Guard, 2703 Martin Luther King Jr. Ave. SE, STOP 7710, Washington, DC 20593-7710.

FOR FURTHER INFORMATION CONTACT: Mr. Anthony Smith, Office of Information Management, telephone 202-475-3532, or fax 202-372-8405, for questions on these documents.

SUPPLEMENTARY INFORMATION:

Public Participation and Request for Comments

This Notice relies on the authority of the Paperwork Reduction Act of 1995; 44 U.S.C. chapter 35, as amended. An ICR is an application to OIRA seeking the approval, extension, or renewal of a Coast Guard collection of information (Collection). The ICR contains information describing the Collection's purpose, the Collection's likely burden on the affected public, an explanation of the necessity of the Collection, and other important information describing the Collection. There is one ICR for each Collection. The Coast Guard invites comments on whether this ICR should be granted based on the Collection being necessary for the proper performance of Departmental functions. In particular, the Coast Guard would appreciate comments addressing: (1) The practical utility of the Collection; (2) the accuracy of the estimated burden of the Collection; (3) ways to enhance the quality, utility, and clarity of information subject to the Collection; and (4) ways to minimize the burden of the Collection on respondents, including the use of automated collection techniques or other forms of information technology. These comments will help OIRA determine whether to approve the ICR referred to in this Notice.

We encourage you to respond to this request by submitting comments and related materials. Comments to Coast Guard or OIRA must contain the OMB Control Number of the ICR. They must also contain the docket number of this request, [USCG-2017-0952], and must be received by April 2, 2018.

Submitting Comments

We encourage you to submit comments through the Federal eRulemaking Portal at http://www.regulations.gov. If your material cannot be submitted using http://www.regulations.gov, contact the person in the FOR FURTHER INFORMATION CONTACT section of this document for alternate instructions. Documents mentioned in this notice, and all public comments, are in our online docket at http://www.regulations.gov and can be viewed by following that website's instructions. Additionally, if you go to the online docket and sign up for email alerts, you will be notified when comments are posted.

We accept anonymous comments. All comments received will be posted without change to http://www.regulations.gov and will include any personal information you have provided. For more about privacy and the docket, you may review a Privacy Act notice regarding the Federal Docket Management System in the March 24, 2005, issue of the Federal Register (70 FR 15086).

OIRA posts its decisions on ICRs online at http://www.reginfo.gov/public/do/PRAMain after the comment period for each ICR. An OMB Notice of Action on each ICR will become available via a hyperlink in the OMB Control Number: 1625-0011.

Previous Request for Comments

This request provides a 30-day comment period required by OIRA. The Coast Guard published the 60-day notice (82 FR 58819, December 14, 2017) required by 44 U.S.C. 3506(c)(2). That Notice elicited one comment. The commenter stated that it's their belief that the current system of the Coast Guard with respect to the new owner or transfer of ownership, should be at the discretion of the system that has always been in place. Coast Guard response: Nothing about the private aid to navigation process is changing and therefore we have not revised this information collection request in response to the comment. Accordingly, no changes have been made to the Collections.

Information Collection Request

Title: Applications for Private Aids to Navigation and for Class I Private Aids to Navigation on Artificial Islands and Fixed Structures.

OMB Control Number: 1625-0011.

Summary: Under the provision of 14 U.S.C. 81, the Coast Guard is authorized to establish aids to navigation. 14 U.S.C. 83 prohibits establishment of aids to navigation without permission of the Coast Guard. 33 CFR 66.01-5 provides a means for private individuals to establish privately maintained aids to navigation. Under 43 U.S.C. 1333, the Coast Guard has the authority to promulgate and enforce regulations concerning lights and other warning devices relating to the promotion of safety of life and property on artificial islands, installations, and other devices on the outer continental shelf involved in the exploration, development, removal, or transportation of resources there from. 33 CFR 67.35-1 prescribes the type of aids to navigation that must be installed on artificial islands and fixed structures. Under the provision of 33 U.S.C. 409, the Secretary of Homeland Security is mandated to prescribe rules and regulations for governing the marking of sunken vessels. This authorization was delegated to the Commandant of the Coast Guard under Department of Homeland Security Delegation number 0170 and the marking of sunken vessels are set out in 33 CFR part 64.11. To change any regulation, 5 U.S.C. 553 requires rule making to be published in the Federal Register and that the notice shall include a statement of time, place, and nature of public rule making proceedings. The information collected for the rule can only be obtained from the owners of sunken vessels. The information collection requirements are contained in 33 CFR 66.01-5, and 67.35-5.

Need: The information on these private aid applications (CG-2554 and CG-4143) provides the Coast Guard with vital information about private aids to navigation and is essential for safe marine navigation. These forms are required under 33 CFR 66 & 67. The information is processed to ensure the private aid is in compliance with current regulations. Additionally, these forms provide the Coast Guard with information which can be distributed to the public to advise of new, or changes to private aids to navigation. In addition, collecting the applicant's contact information is important because it allows the Coast Guard to contact the applicant should there be a discrepancy or mishap involving the permitted private aid to navigation. Certain discrepancies create hazards to navigation and must be responded to and immediately corrected or repaired.

Forms: CG-2554, Private Aids to Navigation Application, and CG-4143, Application for Class I Private Aids to Navigation on Artificial Islands and Fixed Structures.

Respondents: Owners of private aids to navigation.

Frequency: On occasion.

Hour Burden Estimate: The estimated burden has decreased from 2,000 hours to 1,709 hours a year due to a decrease in the number of respondents.

Authority: The Paperwork Reduction Act of 1995; 44 U.S.C. Chapter 35, as amended.

Dated: February 26, 2018.
James D. Roppel,
U.S. Coast Guard, Acting Chief, Office of Information Management.

[FR Doc. 2018-04272 Filed 3-1-18; 8:45 am]

BILLING CODE 9110-04-P